COMMODITY FUTURES TRADING COMMISSION

[OMB Control Number 3038-0007]

Agency Information Collection Activities: Rules Relating to Regulation of Domestic Exchange-Traded Options

AGENCY: Commodity Futures Trading Commission.

ACTION: Extension of an Existing Collection, correction.

SUMMARY: This document corrects language in the Extension of an Existing Collection published in the Federal Register on Thursday, January 5, 2012, seeking 60 days of public comment on the proposed extension of the collection. The collection covers rules related to risk disclosure concerning exchange traded commodity options.

DATES: Comments must be submitted on or before March 5, 2012.

FOR FURTHER INFORMATION CONTACT: Ryne Miller, (202) 418-5921; FAX: (202) 418-5536; email: rmiller@cftc.gov.

SUPPLEMENTARY INFORMATION: In the notice of Extension of an Existing Collection, FR Doc. 2011-33841, on page 477 in the issue of Thursday, January 5, 2012, on page 477, the following correction is made:

ADDRESSES: [Corrected]. Comments may be mailed to Ryne Miller, Division of Market Oversight, U.S. Commodity Futures Trading Commission, 1155 21st Street NW., Washington, DC 20581.

Dated: January 30, 2012.
David A. Stawick,
Secretary of the Commission.

[FR Doc. 2012-2587 Filed 2-3-12; 8:45 am]

BILLING CODE P